DEPARTMENT OF THE INTERIOR

[OR-030-1020-PG; G 02-0061]

Bureau of Land Management

AGENCY: Bureau of Land Management (BLM), Vale District, Interior.

ACTION: Meeting notice for the Southeast Oregon Resource Advisory Council.

SUMMARY: The Southeast Oregon Resource Advisory Council (SEORAC) will meet at the Holiday Inn Conference Room, 1249 Tapadera Avenue, Ontario, OR 97914 from 8 a.m. to 5 p.m., Mountain Standard Time (MST), on Monday, April 15, 2002, and conduct a field tour to discuss the Southeast Oregon Resource Management Plan and the Lakeview Resource Management Plan, on Tuesday, April 16, 2002. Contact the BLM office listed below for exact time as the tour date approaches.

The meeting topics to be discussed by the Council will include a discussion of issues within southeast Oregon related to the Recreation Fee Demonstration program, Sage Grouse update, Special Recreation Use Permits and recreation issues addressed in the Lakeview and the Southeast Oregon Resource Management Plans. We also plan to set meeting dates for 2002, the Federal officials' update, and such other matters as may reasonably come before the Council. The entire meeting is open to the public. Information to be distributed to the Council members is requested in written format 10 days prior to the start of the Council meeting. Public comment is scheduled for 11:15 a.m. to 11:45 a.m., MST on Monday, April 15, 2002.

FOR FURTHER INFORMATION CONTACT: Additional information concerning the SEORAC may be obtained from Peggy Diegan, Support Services Supervisor/Webmaster, Vale District Office, 100 Oregon Street, Vale, OR 97918 (541) 473-3144, or Peggy_Diegan@or.blm.gov or from the following web site <http://www.or.blm.gov/SEOR-RAC>.

Dated: December 20, 2001.
Sandra L. Guches,
Associate District Manager.

[FR Doc. 02-4879 Filed 2-28-02; 8:45 am]

BILLING CODE 4310-33-P